NUCLEAR REGULATORY COMMISSION

10 CFR Part 26

[Docket No. PRM-26-7; NRC-2011-0220]

Cheri Swensson; Certification of Substance Abuse Experts

AGENCY: Nuclear Regulatory Commission.

ACTION: Petition for rulemaking; request for comment.

SUMMARY: The U.S. Nuclear Regulatory Commission (NRC) is publishing for public comment a notice of receipt of a petition for rulemaking (PRM), dated May 5, 2011, and supplemented on August 3, 2011, which was filed with the NRC by Cheri Swensson (the petitioner), on behalf of the American Academy of Health Care Providers in the Addictive Disorders (the Academy). The petition was docketed by the NRC on September 9, 2011, and has been assigned Docket No. PRM-26-7. The petitioner requests that the NRC amend its regulations to include the Academy as one of the organizations authorized to certify a substance abuse expert.

DATES: Submit comments by December 19, 2011. Comments received after this date will be considered if it is practical to do so, but the NRC is able to assure consideration only for comments received on or before this date.

ADDRESSES: Please include Docket ID NRC-2011-0220 in the subject line of your comments. For additional instructions on submitting comments and instructions on accessing documents related to this action, see “Submitting Comments and Accessing Information” in the SUPPLEMENTARY INFORMATION section of this document. You may submit comments by any one of the following methods:

• Federal rulemaking Web site: Go to http://www.regulations.gov and search for documents filed under Docket ID NRC-2011-0220. Address questions about NRC dockets to Carol Gallagher, telephone: 301-492-3668; e-mail: Carol.Gallagher@nrc.gov.

• Mail comments to: Secretary, U.S. Nuclear Regulatory Commission, Washington, DC 20555-0001, Attn.: Rulemakings and Adjudications Staff.

• E-mail comments to: Rulemaking.Comments@nrc.gov. If you do not receive a reply e-mail confirming that we have received your comments, contact us directly at 301-415-1677.

• Hand deliver comments to: 11555 Rockville Pike, Rockville, Maryland 20852, between 7:30 a.m. and 4:15 p.m. Federal workdays. (telephone: 301-415-1677).

• Fax comments to: Secretary, U.S. Nuclear Regulatory Commission at 301-415-1101.

FOR FURTHER INFORMATION CONTACT: Cindy Bladey, Chief, Rules, Announcements, and Directives Branch, Division of Administrative Services, Office of Administration, U.S. Nuclear Regulatory Commission, Washington, DC 20555-0001, telephone: 301-492-3667.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web site: Public comments and supporting materials related to this petition for rulemaking can be found at http://www.regulations.gov by searching on Docket ID NRC-2011-0220.

Background

Cheri Swensson, on behalf of the Academy, submitted a petition for rulemaking dated May 5, 2011, and supplemented on August 3, 2011. The petitioner requested that the NRC amend Title 10 of the Code of Federal Regulations (10 CFR), Section 26.187, “Substance abuse expert,” by including the Academy at Section 26.187(b)(5). The petitioner is the Executive Director for the Academy, which is an international credentialing body composed of psychologists, medical doctors, nurses, social workers, and counselors that provides care in areas such as alcohol and gambling addiction. In 2010, the Academy received its accreditation from the National Commission for Certifying Agencies (NCCA). The NRC has determined that the petition meets the threshold sufficiency requirements for a petition for rulemaking under 10 CFR 2.802, “Petition for rulemaking,” and the petition has been docketed as PRM-26-7. The NRC is requesting public comment on the petition for rulemaking.

Discussion of the Petition

The petitioner states that the Academy “is very interested in working alongside the NRC to ensure its substance abuse experts are qualified and adhere to the NRC's code of professionalism and ethical conduct through [the Academy's] Certified Addiction Specialist [CAS] certification.” The petitioner states that the Academy's CAS certification was accredited by the NCCA in 2010 and is a comprehensive credential offered by the Academy which includes competencies in alcohol addiction, drug addiction, sex addiction, eating disorders and gambling addiction. The petitioner claims that its certification requirements meet or exceed the NRC's requirements. The petitioner requests that the NRC amend § 26.187(b)(5) to include the Academy as one of the organizations authorized to certify a substance abuse expert.

Dated at Rockville, Maryland, this 30th day of September 2011.
For the Nuclear Regulatory Commission.
Annette Vietti-Cook,
Secretary of the Commission.

[FR Doc. 2011-25784 Filed 10-4-11; 8:45 am]

BILLING CODE 7590-01-P